SECURITIES AND EXCHANGE COMMISSION

[SEC File No. 270-669, OMB Control No. 3235-0749]

Submission for OMB Review; Comment Request; Extension: Rule 18a-7

Upon Written Request, Copies Available From: Securities and Exchange Commission, Office of FOIA Services, 100 F Street NE, Washington, DC 20549-2736

Notice is hereby given that, pursuant to the Paperwork Reduction Act of 1995 (“PRA”) (44 U.S.C. 3501 et seq.), the Securities and Exchange Commission (“Commission”) has submitted to the Office of Management and Budget (“OMB”) a request for approval of extension of the previously approved collection of information provided for in Rule 18a-7, under the Securities Exchange Act of 1934 (15 U.S.C. 78a et seq.).

Rule 18a-7 establishes reporting requirements applicable to stand-alone security-based swap dealers (“SBSDs”), stand-alone major security-based swap participants (“MSBSPs”), bank SBSDs, and bank MSBSPs. Rule 18a-7 is modeled on Exchange Act Rule 17a-5, which applies to broker-dealers, but Rule 18a-7 does not include a parallel requirement for every requirement in Rule 17a-5 because some of the requirements in Rule 17a-5 relate to activities that are not expected or permitted of SBSDs and MSBSPs.

Under Rule 18a-7, stand-alone SBSDs and stand-alone MSBSPs are required to file the FOCUS Report Part II and the annual reports, while bank SBSDs and bank MSBSPs are required to file the FOCUS Report Part IIC. Stand-alone SBSDs and stand-alone MSBSPs are required to file the FOCUS Report Part II on a monthly basis, whereas bank SBSDs and bank MSBSPs are required to file FOCUS Report Part IIC on a quarterly basis. Moreover, under Rule 18a-7 stand-alone SBSDs and stand-alone MSBSPs are required to make available to customers an audited statement of financial condition with appropriate notes on their public website.

The Commission estimates that the total hour burden under Rule 18a-7 is approximately 2,796 hours per year, and the total cost burden is approximately $2,424,016 per year.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by July 1, 2024 to (i) www.reginfo.gov/public/do/PRAMain and (ii) David Bottom, Director/Chief Information Officer, Securities and Exchange Commission, c/o John Pezzullo, 100 F Street NE, Washington, DC 20549, or by sending an email to: PRA_Mailbox@sec.gov.

Dated: May 28, 2024.
Sherry R. Haywood,
Assistant Secretary.

[FR Doc. 2024-11958 Filed 5-30-24; 8:45 am]

BILLING CODE 8011-01-P